DEPARTMENT OF THE INTERIOR

Bureau of Land Management

[LLOR932000-L16100000-DF0000-LXSS062H0000; HAG 9-0209]

Notice of Availability of Draft Environmental Impact Statement for Vegetation Treatments Using Herbicides on Bureau of Land Management Lands, Oregon

AGENCY: Bureau of Land Management, Interior.

ACTION: Notice of availability.

SUMMARY: In accordance with the National Environmental Policy Act of 1969 (NEPA), the Bureau of Land Management (BLM) has prepared a Draft Environmental Impact Statement (DEIS) for Vegetation Treatments Using Herbicides on BLM Lands in Oregon (Vegetation Treatments DEIS) and by this Notice is announcing the opening of the comment period.

DATES: To ensure comments will be considered, the BLM must receive written comments on the Vegetation Treatments DEIS within 60 days following the date the Environmental Protection Agency publishes its Notice of Availability in the Federal Register.

ADDRESSES: You may submit comments by any of the following methods:

• Web site: http://www.blm.gov/or/plans/vegtreatmentseis/

• E-mail: orvegtreatments@blm.gov.

• Mail: Vegetation Treatments EIS Team, P.O. Box 2965, Portland, OR 97208-2965.

Copies of the Vegetation Treatments DEIS are available on the Internet at: http://www.blm.gov/or/plans/vegtreatmentseis/. Requests to receive printed or CD copies of the DEIS should be sent to one of the addresses listed above.

FOR FURTHER INFORMATION CONTACT: Todd Thompson, EIS Project Manager, by mail at Bureau of Land Management—OR932, P.O. Box 2965, Portland, OR 97208; by telephone at (503) 808-6326; or by email to the EIS Team at the address listed above.

SUPPLEMENTARY INFORMATION: In 1984, the BLM was prohibited from using herbicides in Oregon by a U.S. District Court injunction issued in Northwest Coalition for Alternatives to Pesticides, et al. v. Block, et al. (Civ. No. 82-6273-E). Following completion of an EIS examining the use of four herbicides just on noxious weeds, the injunction was modified by the court in November 1987 (Civ. No. 82-6272-BU). For the subsequent 22 years, the BLM in Oregon has limited its herbicide use to the four herbicides analyzed and limited use of those four herbicides to the control and eradication of Federal-, state-, or county-listed noxious weeds. In that time, new herbicides have become available that can be used in smaller doses, are more target-specific, and are less likely to adversely affect people and other non-target organisms. These new herbicides are being used by adjacent cooperating agencies and landowners to achieve better invasive weed control. Further, there are limited additional native vegetation treatment needs that would be more feasibly met, and more efficiently accomplished with selected herbicides.

In 2007, the BLM Washington Office (WO220) completed the Vegetation Treatments Using Herbicides on Bureau of Land Management Lands in 17 Western States Programmatic Environmental Impact Statement (PEIS) and related Record of Decision making 18 herbicides available for a full range of non-commodity vegetation treatments in 17 western states including Oregon. Oregon cannot implement that decision, however, until and unless the District Court injunction is lifted. The DEIS being released today, Vegetation Treatments Using Herbicides on BLM Lands in Oregon, tiers to the PEIS, incorporates additional detailed analysis regarding the potential for human and environmental risks specific to Oregon and addresses the issues in the 1984 District Court decision and other information specific to Oregon. The additional analysis is similar to that presented in a similar EIS completed by the Forest Service in Oregon in 2005. The DEIS is programmatic, addressing all 15.7 million acres in Oregon and addressing all 18 herbicides approved for use by the 2007 Record of Decision for the PEIS and being used in the other 16 western states. The DEIS analyzes one “no action” alternative, one “no herbicide” alternative, and 3 action alternatives which were shaped in part by the comments received during 12 public scoping meetings held throughout Oregon in July 2008. No projects will be authorized; site-specific projects will be subject to additional National Environmental Policy Act analysis.

The analysis indicates that by using BLM manual section and policy standard operating procedures, along with PEIS-adopted mitigation measures, human and environmental risk from the use of herbicides is both minimized and reduced from current levels. The proposed action would also slow the spread of noxious weeds on BLM lands by about 50 percent and result in 2.2 million fewer infested acres in 15 years than under current program capabilities.

Following the public comment period, the BLM will prepare a Final Environmental Impact Statement and Record of Decision. These are planned for release in mid-summer 2010.

The responsible official for the EIS is the BLM Oregon and Washington State Director. No public hearings or meetings are planned during the public comment period for the DEIS. Please note that public comments and information submitted; including the names, street addresses, and email addresses of respondents; will be available for public review and disclosure during regular business hours (8 a.m. to 4 p.m.), Monday through Friday, except holidays, at the following address: 333 SW. 1st Avenue, Portland, OR 97204.

Before including your address, phone number, e-mail address, or other personal identifying information in your comment, you should be aware that your entire comment—including your personal identifying information—may be made publicly available at any time. While you can ask us in your comment to withhold your personal identifying information from public review, we cannot guarantee that we will be able to do so.

Edward W. Shepard,
State Director, Oregon/Washington BLM.

[FR Doc. E9-23678 Filed 10-1-09; 8:45 am]

BILLING CODE 4310-33-P